DEPARTMENT OF THE INTERIOR

Office of the Secretary

Notice of Proposed Renewal of Information Collection: Donor Certification Form

AGENCY: Office of Youth, Partnerships and Service, Assistant Secretary—Policy, Management and Budget, Interior.

ACTION: Notice and Request for Comments.

SUMMARY: In compliance with section 3506(c)(2)(A) of the Paperwork Reduction Act of 1995, the Office of Youth, Partnerships and Service seeks public comments on the renewal of the information collection associated with the Interior Department Donor Certification Form.

DATES: Consideration will be given to all comments received by May 29, 2012.

ADDRESSES: Written comments and recommendations on the information collection should be sent to Olivia Barton Ferriter, Office of Youth, Partnerships and Service, 1849 C St. NW., MS 3559 MIB, Washington, DC 20240, or email her at Olivia_Ferriter@ios.doi.gov. Individuals providing comments should reference Donor Certification Form.

FOR FURTHER INFORMATION CONTACT: To request more information on this information collection or to obtain a copy of the associated collection instrument, please write to the above address, or call Olivia Barton Ferriter on 202-208-4881.

SUPPLEMENTARY INFORMATION:

I. Abstract

Office of Management and Budget (OMB) regulations at 5 CFR part 1320, which implement the Paperwork Reduction Act of 1995 (Pub. L. 104-13), require that interested members of the public and affected agencies have an opportunity to comment on information collection and recordkeeping activities (see 5 CFR 1320.8 (d)). This notice identifies an information collection activity that the Office of Youth, Partnerships and Service will submit to OMB for approval for the Department and its bureaus to continue to collect information from proposed donors relative to their relationship(s) with the Department. The Department and its individual bureaus all have gift acceptance authority. In support of the variety of donation authorities in the Department and increasing numbers of donations, it is the policy of the Department to ask those proposing to donate gifts valued at $25,000 or more to provide information regarding their relationship with the Department. The purpose of this policy is to ensure that the acceptance of a gift does not create legal or ethical issues for the Department, its bureaus, or potential donors. The information will be gathered through the use of a form.

If this information were not collected from the prospective donor, the Department would have to collect the information. With nine major bureaus, 2400 locations and 70,000 employees, it is not possible to collect the information about a particular donor in a timely manner to respond to a proposed donation. Having the donor certify his or her interactions with the Department gives the staff reviewing the proposed donation basic information.

II. Method of Collection

Individuals notifying the Department or one of its bureaus of a proposed offer of a gift valued at $25,000 or higher will be asked to submit a form listing several items of basic information.

(1) Title: Donor Certification Form.

Information collected | Reason for collection
Name, and indication whether executing in individual capacity, or on behalf of an organization | To identify the donor, and whether the donor is acting individually or on behalf of an organization.
Declaration whether the donor is involved with litigation or controversy with the Department | To assist the Department in determining whether there are any issues associated with the proffer of the gift that need to be more closely examined.
Declaration whether the donor is engaged in any financial or business relationship with the Department | To assist the Department in determining whether there are any issues associated with the proffer of the gift that need to be more closely examined.
Declaration whether the donor has been debarred, excluded or disqualified from the nonprocurement common rule, or otherwise declared ineligible from doing business with any Federal agency | To assist the Department in determining whether there are any issues associated with the proffer of the gift that need to be more closely examined.
Declaration as to whether the donation is expected to be involved with marketing or advertisting | To assist the Department in determining whether there are any issues associated with the proffer of the gift that need to be more closely examined.
Declaration whether the donor is seeking to attach conditions to the donation | To assist the Department in determining whether there are any issues associated with the proffer of the gift that need to be more closely examined.
Declaration whether this proposed donation is or is not part of a series of donations to the Department | To assist the Department in determining the scope and context of the donation, and to assist in determining whether there are any issues associated with the proffer of the gift that need to be more closely examined.
Signature, Printed Name, Date, Organization, Email address, City, State, Zip, and daytime or work phone number | To establish the contact information of the potential donor, and have the certifier sign the certification form.

III. Data

(1) Title: Donor Certification Form.

OMB Control Number: 1090-0009

Type of Review: Information Collection: Renewal

Affected Entities: Individuals or households, Businesses, Not-for-profit institutions, Tribal governments.

Estimated annual number of respondents: 555.

Frequency of response: Once per prospective donation.

(2) Annual reporting and recordkeeping burden:

Estimated number of responses annually: 555.

Estimated burden per response: 20 minutes.

Total annual reporting: 185 hours.

(3) Description of the need and use of the information: This information will provide Department staff with the basis for beginning the evaluation as to whether the Department will accept the proposed donation. The authorized employee will receive the donor certification form with the proposed donation. The employee will then review the totality of circumstances surrounding the proposed donation to determine whether the Department can accept the donation and maintain its integrity, impartiality, and public confidence.

IV. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

The comments, with names and addresses, will be available for public viewing. If you wish us to withhold your personal information, you must prominently state at the beginning of your comment what personal information you want us to withhold. We will honor your request to the extent allowable by law. Comments received, if any, will be available for public viewing by appointment only. You may schedule such an appointment by contacting the Office of Youth, Partnerships and Service at 1849 C Street NW., MS 3559 MIB, Washington, DC 20240, or telephone (202) 208-4881 to schedule an appointment to view any comments received. A valid picture identification is required for entry into the Department of the Interior.

An agency may not conduct or sponsor, and a person is not required to respond to, a collection of information unless it displays a currently valid Office of Management and Budget control number.

Dated: March 21, 2012.
Olivia Barton Ferriter,
Office of Youth, Partnerships and Service.

[FR Doc. 2012-7412 Filed 3-27-12; 8:45 am]

BILLING CODE 4310-RK-P